DEPARTMENT OF EDUCATION

President's Advisory Commission on Educational Excellence for Hispanics

AGENCY: U.S. Department of Education, White House Initiative on Educational Excellence for Hispanics.

ACTION: Notice of an open conference call meeting.

SUMMARY: This notice sets forth the announcement of a conference call meeting of the President's Advisory Commission on Educational Excellence for Hispanics. The notice also describes the functions of the Commission. Notice of the meeting is required by section 10(a)(2) of the Federal Advisory Committee Act and is intended to notify the public of this meeting.

DATES: Wednesday, January 30, 2013.

Time: 4:00-5:30 p.m. Eastern Standard Time.

ADDRESSES: Conference Call. CALL NUMBER/ID: (712) 432-3900/ID-391333 (Listen-Only)

For members of the public who wish to convene in person and listen to the conference call meeting, please arrive at the U.S. Department of Education, Lyndon Baines Johnson Building, Room 1W103, 400 Maryland Avenue SW., Washington, DC no later than 3:30 p.m.

Please RSVP to WhiteHouseforHispanicEducation@ed.gov by Monday, January 28, 2013.

FOR FURTHER INFORMATION CONTACT: Marco A. Davis, Acting Executive Director, White House Initiative on Educational Excellence for Hispanics, 400 Maryland Ave. SW., Room 4W110, Washington, DC 20202; telephone: 202-453-7023.

SUPPLEMENTARY INFORMATION: The President's Advisory Commission on Educational Excellence for Hispanics (the Commission) is established by Executive Order 13555 (Oct. 19, 2010; reestablished December 21, 2012). The Commission is governed by the provisions of the Federal Advisory Committee Act (FACA), (Pub. L. 92-463; as amended, 5 U.S.C.A., Appendix 2) which sets forth standards for the formation and use of advisory committees. The purpose of the Commission is to advise the President and the Secretary of Education (Secretary) on all matters pertaining to the education attainment of the Hispanic community.

The Commission shall advise the President and the Secretary in the following areas: (i) Developing, implementing, and coordinating educational programs and initiatives at the Department and other agencies to improve educational opportunities and outcomes for Hispanics of all ages; (ii) increasing the participation of the Hispanic community and Hispanic-Serving Institutions in the Department's programs and in education programs at other agencies; (iii) engaging the philanthropic, business, nonprofit, and education communities in a national dialogue regarding the mission and objectives of this order; (iv) establishing partnerships with public, private, philanthropic, and nonprofit stakeholders to meet the mission and policy objectives of this order.

Agenda

The Commission will review draft reports summarizing activities of its subcommittees in 2012 and discuss ideas for Commission activities in 2013.

There will not be an opportunity for public comment during this meeting due to time constraints. However, members of the public may submit written comments related to the work of the Commission via WhiteHouseforHispanicEducation@ed.gov no later than Jan. 23, 2013. A recording of this meeting will be posted on the Commission's Web page at http://www2.ed.gov/about/inits/list/hispanic-initiative/index.html no later than Feb. 27, 2013.

Records are kept of all Commission proceedings and are available for public inspection at the office of the White House Initiative on Educational Excellence for Hispanics, U.S. Department of Education, 400 Maryland Ave. SW., Room 4W108, Washington, DC 20202, Monday through Friday (excluding Federal holidays) during the hours of 9 a.m. to 5 p.m.

Electronic Access to the Document: You may view this document, as well as all other documents of this Department published in the Federal Register, in text or Adobe Portable Document Format (PDF) on the Internet at: www.ed.gov/fedregister/index.html. To use PDF, you must have Adobe Acrobat Reader, which is available free at this site. For questions about using PDF, call the U.S. Government Printing Office (GPO), toll free at 1-866-512-1830; or in the Washington, DC, area at 202-512-0000.

Martha Kanter,
Under Secretary, Department of Education.

[FR Doc. 2013-01035 Filed 1-17-13; 8:45 am]

BILLING CODE 4000-01-P